DEPARTMENT OF DEFENSE

Department of the Air Force

Privacy Act of 1974; System of Records

AGENCY: Department of the Air Force, DoD.

ACTION: Notice to alter systems of records.

SUMMARY: The Department of the Air Force is proposing to alter two existing systems of records notices in its inventory of records systems subject to the Privacy Act of 1974 (5 U.S.C. 552a), as amended. The alterations consist of adding exemptions to the existing systems of records F033 AF A, entitled ‘Information Requests-Freedom of Information Act’ and F033 AF B, entitled ‘Privacy Act Request File’.

The exemptions are needed because during the course of a Freedom of Information Act (FOIA) and Privacy Act action, exempt materials from other systems of records may in turn become part of the case records in these systems. To the extent that copies of exempt records from those ‘other’ systems of records are entered into the Freedom of Information Act and/or Privacy Act case records, the Department of the Air Force hereby claims the same exemptions for the records from those ‘other’ systems that are entered into these systems, as claimed for the original primary systems of records which they are a part. Therefore, the Air Force is proposing to add exemptions 5 U.S.C. 552a(j)(2), (k)(1) through (k)(7) to these two existing systems of records.

DATES: The actions will be effective on May 7, 2003, unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force’s record system notices for records systems subject to the Privacy Act of 1974 (5 U.S.C. 552a), as amended, have been published in the Federal Register and are available from the address above.

The proposed system report, as required by 5 U.S.C. 522a(r) of the Privacy Act of 1974, as amended, was submitted on March 28, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 31, 2003.
Patricia L. Toppings,
Alternate OSD Federal Register Liaison Officer, Department of Defense.

F033 AF CIC B

SYSTEM NAME:

Information Requests-Freedom of Information Act (June 11, 1997, 62 FR 31793).

Changes:

SYSTEM IDENTIFIER:

Replace entry with ‘F033 AF A’.

* * * * *

Categories of Individuals Covered by the System:

Add to end of entry ‘individuals whose requests and/or records have been processed under FOIA and referred by other Federal agencies; and attorneys representing individuals submitting such requests.’

Categories of Records in the System:

Replace entry with ‘Records created or compiled in response to FOIA requests, i.e., original requests; responses to such requests; all related memoranda, correspondence, notes, and other related or supporting documentation; and copies of requested records.’

* * * * *

Purpose(s):

Replace entry with ‘To process FOIA requests and to assist the Department of the Air Force in carrying out responsibilities under the FOIA.’

* * * * *

Record Source Category:

Replace entry with ‘Those individuals who submit initial requests, the agency records searched in the process of responding to such requests; Air Force personnel assigned to handle such requests; other agencies or entities that have referred requests concerning Department of the Air Force records, or that have consulted with the Department of the Air Force regarding the handling of particular requests; and submitters of records or information that have provided assistance to the Department of the Air Force in making FOIA access determinations.’

Exemption(s) Claimed for the System:

Replace entry with ‘During the course of a FOIA action, exempt materials from other systems of records may in turn become part of the case records in this system. To the extent that copies of exempt records from those ‘other’ systems of records are entered into this FOIA case record, Air Force hereby claims the same exemptions for the records from those ‘other’ systems that are entered into this system, as claimed for the original primary systems of records which they are a part.

An exemption rule for this system has been promulgated in accordance with requirements of 5 U.S.C. 553(b)(1), (2), and (3), (c), and (e) and published in 32 CFR part 806b. For additional information contact the system manager.’

* * * * *

F033 AF A

System Name:

Information Requests-Freedom of Information Act.

System Location:

Air Force installations and headquarters of combatant commands for which Air Force is Executive Agent. Official mailing addresses are published as an appendix to the Air Force’s compilation of record systems notices.

Categories of Individuals Covered by the System:

All persons who have requested documents under the provisions of the Freedom of Information Act (FOIA); individuals whose requests and/or records have been processed under FOIA and referred by other Federal agencies; and attorneys representing individuals submitting such requests.

Categories of Records in the System:

Records created or compiled in response to FOIA requests, i.e., original requests; responses to such requests; all related memoranda, correspondence, notes, and other related or supporting documentation; and copies of requested records.

Authority for Maintenance of the System:

5 U.S.C. 552, The Freedom of Information Act as implemented by Air Force Supplement to DoD Regulation 5400.7; and 10 U.S.C. 8013.

Purpose(s):

To process FOIA requests and to assist the Department of the Air Force in carrying out responsibilities under the FOIA.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and Practices for Storing, Retrieving, Accessing, Retaining, and Disposing of Records in the System:

Storage:

Maintained in file folders, in computers and on computer output products.

Retrievability:

Retrieved by name.

Safeguards:

Records are accessed by person(s) responsible for servicing the record system in performance of their official duties and by authorized personnel who are properly screened and cleared for need-to-know. Records are stored in locked rooms and cabinets. Those in computer storage devices are protected by computer system software.

Retention and Disposal:

Released records are retained in office files for two years after annual cut-off. Denied records are retained in office files for six years then destroyed by tearing into pieces, shredding, pulping, macerating, or burning. Computer records are destroyed by erasing, deleting or overwriting.

System Manager(s) and Address:

FOIA managers at Air Force installations, bases, units, organizations, and offices. Official mailing addresses are published as an appendix to the Air Force's compilation of record systems notices.

Notification Procedure:

Individuals seeking to determine whether this system of records contains information on themselves should address written inquiries to or visit the appropriate FOIA office. Official mailing addresses are published as an appendix to the Air Force's compilation of record systems notices.

Record Access Procedures:

Individuals seeking to access records about themselves contained in this system of records should address written inquiries to or visit the appropriate FOIA office. Official mailing addresses are published as an appendix to the Air Force's compilation of record systems notices.

Contesting Record Procedures:

The Air Force rules for accessing records, and for contesting contents and appealing initial agency determinations are published in Air Force Instruction 37-132; 32 CFR part 806b; or may be obtained from the system manager.

Record Source Categories:

Those individuals who submit initial requests, the agency records searched in the process of responding to such requests; Air Force personnel assigned to handle such requests; other agencies or entities that have referred requests concerning Department of the Air Force records, or that have consulted with the Department of the Air Force regarding the handling of particular requests; and submitters of records or information that have provided assistance to the Department of the Air Force in making FOIA access determinations.

Exemptions Claimed for the System:

During the course of a FOIA action, exempt materials from other systems of records may in turn become part of the case records in this system. To the extent that copies of exempt records from those ‘other’ systems of records are entered into this FOIA case record, Air Force hereby claims the same exemptions for the records from those ‘other’ systems that are entered into this system, as claimed for the original primary systems of records which they are a part.

An exemption rule for this system has been promulgated in accordance with requirements of 5 U.S.C. 553(b) (1), (2), and (3), (c), and (e) and published in 32 CFR part 806b. For additional information contact the system manager.

F033 AF CIC B

System Name:

Privacy Act Request File (June 11, 1997, 62 FR 31793).

Changes:

System Identifier:

Replace entry with ‘F033 AF B’.

* * * * *

Purpose(s):

Delete ‘to prepare legal opinions and interpretations for system managers and the Secretary of the Air Force’ and add ‘to compile information for reports, and to ensure timely response to requesters.’

* * * * *

Storage:

Delete entry and replace with ‘Maintained in file folders and on computers and computer output products.’

* * * * *

Safeguards:

Add to entry ‘Records in computer storage devices are protected by computer system software.’

Retention and Disposal:

Replace entry with ‘Granted access requests; responses to requests for non-existent records, inadequate descriptions, and failure to pay agency fees that are not appealed, are destroyed 2 years after date of reply; denied access requests not appealed are destroyed 5 years after date of reply; denied access requests appealed, and requests to amend are destroyed with the approved disposition instructions of the related subject individual's record, 4 years after final agency determination, or 3 years after final adjudication by courts whichever is later.’

* * * * *

Exemption(s) Claimed for the System:

Replace entry with ‘During the course of a Privacy Act (PA) action, exempt materials from other systems of records may become part of the case records in this system of records. To the extent that copies of exempt records from those ‘other’ systems of records are entered into these PA case records, the Department of the Air Force hereby claims the same exemptions for the records as they have in the original primary systems of records which they are a part.

Department of the Air Force exemption rules have been promulgated in accordance with requirements of 5 U.S.C. 553(b) (1), (2), and (3), (c) and (e) published in 32 CFR part 806b. For additional information contact the system manager.’

* * * * *

F033 AF B

System Name:

Privacy Act Request File.

System Location:

At all levels having responsibility for systems of records under the Privacy Act. Includes Headquarters United States Air Force staff agencies; major commands; field operating agencies; installations and activities, and headquarters of combatant commands for which Air Force is Executive Agent. Official mailing addresses are published as an appendix to the Air Force’s compilation of record systems notices.

Categories of Individuals Covered by the System:

All persons who request access to, or amendment of records about themselves under the provisions of the Privacy Act of 1974 (5 U.S.C. 552a).

Categories of Records in the System:

Letters, memoranda, legal opinions, messages, and miscellaneous documents relating to an individual's request for access to or amendment of records concerning that person, including letters of denial, appeals, statements of disagreements, and related documents accumulated in processing requests received under the Privacy Act of 1974.

Authority for Maintenance of the System:

10 U.S.C. 8013, Secretary of the Air Force; 5 U.S.C. 552a, The Privacy Act of 1974; and Air Force Instruction 33-332, Air Force Privacy Act Program.

Purpose(s):

To record, process and coordinate individual requests for access to, or amendment of, personal records, and appeals on denials of requests for access or amendments to personal records; and to compile information for reports, and to ensure timely response to requesters.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

May be disclosed to the Office of Management and Budget or other Government agencies having a direct interest in monitoring or evaluating compliance with the provisions of the Privacy Act, including the preparation of special studies or reports on the status of actions taken to comply with the Act, the results of those efforts, any problems encountered and recommendations for any changes in legislation, policies, or procedures.

The DoD ‘Blanket Routine Uses’ published at the beginning of the Air Force's compilation of record system notices apply to this system.

Policies and Practices for Storing, Retrieving, Accessing, Retaining, and Disposing of Records in the System:

Storage:

Maintained in file folders and on computers and computer output products.

Retrievability:

Retrieved by name of requester.

Safeguards:

Records are accessed by custodian of the record system and by person(s) responsible for servicing the record system in performance of their official duties and who are properly screened and cleared for need-to-know. Records are stored in locked cabinets or rooms. Records in computer storage devices are protected by computer system software.

Retention and Disposal:

Granted access requests; responses to requests for non-existent records, inadequate descriptions, and failure to pay agency fees that are not appealed, are destroyed 2 years after date of reply; denied access requests not appealed are destroyed 5 years after date of reply; denied access requests appealed, and requests to amend are destroyed with the approved disposition instructions of the related subject individual's record, 4 years after final agency determination, or 3 years after final adjudication by courts whichever is later.

System Manager(s) and Address:

Privacy Act managers at installations, bases, units, organizations, and offices. Official mailing addresses are published as an appendix to the Air Force's compilation of record systems notices.

Notification Procedure:

Individuals seeking to determine whether this system of records contains information on themselves should address written inquiries to or visit the appropriate system manager.

Written requests should include the person's full name, and other personal information which could be verified from the person's file.

For personal visits, the individual should present a valid identification card or driver's license and some verbal information which could be verified from the person's case file. Official mailing addresses are published as an appendix to the Air Force's compilation of systems of records notices.

Record Access Procedures:

Individuals seeking to access records about themselves contained in this system of records should address written inquiries to the appropriate system manager. Official mailing addresses are published as an appendix to the Air Force's compilation of systems of records notices.

Written requests should include the person's full name, and other personal information which could be verified from the person's file.

For personal visits, the individual should present a valid identification card or driver's license and some verbal information which could be verified from the person's case file. Official mailing addresses are published as an appendix to the Air Force's compilation of systems of records notices.

Contesting Record Procedures:

The Air Force rules for accessing records, and for contesting contents and appealing initial agency determinations are published in Air Force Instruction 37-132; 32 CFR part 806b; or may be obtained from the system manager.

Record Source Categories:

Those individuals who submit initial requests, the agency records searched in the process of responding to such requests; Air Force personnel assigned to handle such requests; other agencies or entities that have referred requests concerning Department of the Air Force records, or that have consulted with the Department of the Air Force regarding the handling of particular requests; and submitters of records or information that have provided assistance to the Department of the Air Force in making FOIA access determinations.

Exemptions Claimed for the System:

During the course of a Privacy Act (PA) action, exempt materials from other systems of records may become part of the case records in this system of records. To the extent that copies of exempt records from those ‘other’ systems of records are entered into these PA case records, the Department of the Air Force hereby claims the same exemptions for the records as they have in the original primary systems of records which they are a part.

Department of the Air Force exemption rules have been promulgated in accordance with requirements of 5 U.S.C. 553(b) (1), (2), and (3), (c) and (e) published in 32 CFR part 806b. For additional information contact the system manager.

[FR Doc. 03-8215 Filed 4-4-03; 8:45 am]

BILLING CODE 5001-08-P